DEPARTMENT OF THE TREASURY

Customs Service

[T.D. 03-10]

Recordation of Trade Name: “Revolutionary Products, Inc”

AGENCY: Customs Service, Treasury.

ACTION: Notice of final action.

SUMMARY: This document provides notice that “Revolutionary Products, Inc.” is recorded by Customs as the trade name for Revolutionary Products, Inc., a California corporation organized under the laws of the State of California, located at 12910 Culver Boulevard, Suite G, Los Angeles, California 90066. This application for trade name recordation was properly submitted to Customs and published in the Federal Register. As no public comments in opposition to the recordation of this trade name were received by Customs within the 60-day comment period, the trade name is duly recorded with Customs and will remain in force as long as this trade name is used by this corporation, unless other action is required.

EFFECTIVE DATE: February 25, 2003.

FOR FURTHER INFORMATION CONTACT: Gwendolyn Savoy, Intellectual Property Rights Branch, Office of Regulations & Rulings, U.S. Customs Service, 1300 Pennsylvania Avenue, NW., (Mint Annex) Washington, DC 20229; (202) 572-8710.

SUPPLEMENTARY INFORMATION:

Background

Trade names adopted by business entities may be recorded with Customs to afford the particular business entity with increased commercial protection. Customs procedure for recording trade names is provided at § 133.12 of the Customs Regulations (19 CFR 133.12) pursuant to section 42 of the Act of July 5, 1946, as amended (15 U.S.C. 1124). Pursuant to this regulatory provision, Revolutionary Products, Inc., a California corporation organized under the laws of the State of California, located at 12910 Culver Boulevard, Suite G, Los Angeles, California 90066, applied to Customs for protection of its trade name “Revolutionary Products, Inc.”.

On Wednesday, December 18, 2002, a notice of application for the recordation of the trade name “Revolutionary Products, Inc.” was published in the Federal Register (67 FR 247). The notice advised that before final action was taken on the application, consideration would be give to any relevant data, views, or arguments submitted in writing by any person in opposition to the recordation of this trade name and received not later than February 24, 2003. The comment period closed February 24, 2003. No comments were received during the comment period. Accordingly, as provided by § 133.12 of the Customs Regulations, “Revolutionary Products, Inc.” is recorded with Customs as the trade name of Revolutionary Products, Inc., and will remain in force as long as this trade name is used by this corporation, unless other action is required.

The application states applicant manufactures, advertises, distributes and sells an electrically driven rotating mechanical hairbrush in packaging and boxes labeled with the Revo Styler trademark and Revolutionary Products, Inc. trade name. Additionally, the trade name appears on a label affixed to the handle of the Revo Styler hairbrush, and is molded into the plastic of the electrical power plug.

The merchandise is manufactured in China and Hong Kong.

Dated: February 27, 2003.
George Frederick McCray,
Chief, Intellectual Property Rights Branch.

[FR Doc. 03-5118 Filed 3-4-03; 8:45 am]

BILLING CODE 4820-02-P